DEPARTMENT OF HOMELAND SECURITY

Privacy Office; Published Privacy Impact Assessments on the Web

AGENCY: Privacy Office, Office of the Secretary, Department of Homeland Security.

ACTION: Notice of publication of Privacy Impact Assessments.

SUMMARY: The Privacy Office of the Department of Homeland Security is making available six (6) Privacy Impact Assessments on various programs and systems in the Department. These assessments were approved and published on the Privacy Office's Web site between January 1, 2007 and January 31, 2007.

DATES: The Privacy Impact Assessments will be available on the DHS Web site until May 21, 2007, after which they may be obtained by contacting the DHS Privacy Office (contact information below).

FOR FURTHER INFORMATION CONTACT: Hugo Teufel III, Chief Privacy Officer, Department of Homeland Security, Mail Stop 0550, 601 S. 12th Street, Arlington, VA 22202-4220; by telephone (571) 227-3813, facsimile (866) 466-5370, or e-mail: pia@dhs.gov.

SUPPLEMENTARY INFORMATION: January 1, 2007 and January 31, 2007, the Chief Privacy Officer of the Department of Homeland Security (DHS) approved and published six (6) Privacy Impact Assessments (PIAs) on the DHS Privacy Office Web site, http://www.dhs.gov/privacy, under the link for “Privacy Impact Assessments.” Below is a short summary of each of those systems, indicating the DHS component responsible for the system, and the date on which the PIA was approved. Additional information can be found on the Web site or by contacting the Privacy Office.

System: The Department of Homeland Security Traveler Redress Inquiry Program (DHS TRIP).

Component: Department-wide Programs.

Date of approval: January 18, 2007.

The DHS TRIP is a customer service web-based initiative developed as a voluntary program to provide a one-stop mechanism for individuals to request redress who believe they have been (1) denied or delayed boarding transportation due to DHS screening programs, (2) denied or delayed entry into or departure from the United States at a port of entry, or (3) identified for additional (secondary) screening at our Nation's transportation facilities, including airports, and seaports. DHS TRIP provides traveler redress intake and processing support while working with relevant DHS components to review and respond to requests for redress.

System: Custom and Border Protection's Western Hemisphere Travel Initiative (WHTI).

Component: Customs and Border Protection (CBP), DHS.

Date of approval: January 23, 2007.

CBP, in conjunction with the Bureau of Consular Affairs of the Department of State, published in the Federal Register a Final Rule to implement the WHTI requirements for air travel on November 24, 2006, at 71 FR 68411. Under the WHTI final rule, effective January 23, 2007, affected travelers entering the United States from a Western Hemisphere country by air must present a passport, Air NEXUS card, or Merchant Mariner Document to CBP officials. This PIA reflects the WHTI requirements as set out in the final rule and follows the initial PIA for WHTI posted on August 11, 2006, at http://www.dhs.gov/privacy under the link for “Privacy Impact Assessments”, in conjunction with the notice of proposed rulemaking (NPRM). This updated PIA reflects changes made to WHTI based upon changes in policy and amendments to statutory authority as well as in response to comments on the WHTI NPRM.

System: USCIS Naturalization Redesign Test Pilot.

Component: U.S. Citizenship and Immigration Services (USCIS).

Date of approval: January 12, 2007.

USCIS developed the Naturalization Redesign Test Pilot and redesigned the civics and language proficiency test that a lawful permanent resident must take in order to gain citizenship. This PIA is for this new test, which USCIS is currently implementing.

System: Integrated Digitization Document Management Program (IDDMP).

Component: USCIS.

Date of approval: January 5, 2007.

USCIS prepared a PIA for a series of systems comprising the IDDMP. Through the IDDMP, USCIS will digitize its paper-based Alien Files (A-Files) so that the files may be shared more efficiently within the DHS and outside DHS, as appropriate.

System: FEMA National Emergency Management Information System Mitigation Electronic Grants Management system.

Component: FEMA.

Date of approval: January 16, 2007.

FEMA operates the National Emergency Management Information System (NEMIS) Mitigation (MT) Electronic Grants Management (eGrants) system. The eGrants system is an online grant application and grant management system. This PIA is being conducted because personally identifiable information may be included in grant applications made by states or local communities.

System: Web Portal for the Center for Faith-based and Community Initiatives (CFBCI).

Component: Preparedness.

Date of approval: January 10, 2007.

This project creates a web-based portal to enable individuals to register their names and email addresses in order to receive information about the activities of the CFBCI at DHS. The collection of contact information enables the CFBCI to disseminate information to interested parties. Because the contact information qualifies as personally identifiable information under the E-Government Act of 2002, this PIA has been conducted.

Hugo Teufel III,
Chief Privacy Officer.

[FR Doc. 07-1329 Filed 3-19-07; 8:45 am]

BILLING CODE 4410-10-P